DEPARTMENT OF HOMELAND SECURITY

Federal Emergency Management Agency

44 CFR Part 67

[Docket No. FEMA-D-7824]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding these proposed regulatory flood elevations. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 14, 2008.

ADDRESSES: The corresponding preliminary Flood Insurance Rate Map (FIRM) for the proposed BFEs for each community are available for inspection at the community's map repository. The respective addresses are listed in the table below.

You may submit comments, identified by Docket No. FEMA-D-7824, to William R. Blanton, Jr., Chief, Engineering Management Section, Mitigation Directorate, Federal Emergency Management Agency, 500 C Street, SW., Washington, DC 20472, (202) 646-3151, or (e-mail) bill.blanton@dhs.gov.

FOR FURTHER INFORMATION CONTACT: William R. Blanton, Jr., Chief, Engineering Management Section, Mitigation Directorate, Federal Emergency Management Agency, 500 C Street, SW., Washington, DC 20472.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Johnson County, Kansas, and Incorporated Areas
Bain Creek | At the confluence with Niles Creek | None | +946 | Unincorporated Areas of Johnson County.
| Approximately 800 feet upstream of West 183rd Street | None | +1025
Tributary B | At the confluence with Bain Creek | None | +998 | Unincorporated Areas of Johnson County, City of Spring Hill.
| At Lone Elm Road | None | +1023
Big Bull Creek | At the County Boundary | None | +936 | Unincorporated Areas of Johnson County.
| Approximately 5,060 feet upstream of the confluence of Big Bull Creek Tributary J | None | +1011
Tributary A | At the County Boundary | None | +947 | Unincorporated Areas of Johnson County.
| Approximately 8,260 feet upstream of the County Boundary | None | +1001
Tributary C | At the confluence with with Big Bull Creek | None | +938 | Unincorporated Areas of Johnson County.
| Approximately 3,130 feet upstream of the confluence with Big Bull Creek | None | +946
Tributary D | At the confluence with Big Bull Creek | None | +941 | Unincorporated Areas of Johnson County, City of Gardner.
| Approximately 950 feet upstream of Interstate Highway 35 Ramp | None | +1027
Tributary E | At the confluence with Big Bull Creek | None | +949 | Unincorporated Areas of Johnson County, City of Gardner.
| Approximately 6,050 feet upstream of Waverly Road | None | +1037
Tributary F | At the confluence with Big Bull Creek | None | +961 | Unincorporated Areas of Johnson County.
| Approximately 660 feet upstream of West 183rd Street | None | +1019
Tributary H | At the confluence with Big Bull Creek | None | +981 | Unincorporated Areas of Johnson County.
| Approximately 1,350 feet upstream of the confluence with Big Bull Creek | None | +986
Tributary I | At the confluence with Big Bull Creek | None | +988 | Unincorporated Areas of Johnson County.
| Approximately 2,180 feet upstream of West 183rd Street | None | +999
Blue River | Approximately 5,025 feet downstream of County Boundary | +867 | +865 | Unincorporated Areas of Johnson County, City of Leawood, City of Overland Park.
| At the confluence of Coffee Creek | +909 | +913
Tributary A | At the County Boundary | None | +905 | City of Leawood.
| At West 135th Street | None | +924
Tributary B | At the County Boundary | +868 | +865 | City of Leawood, City of Overland Park.
| At West 143rd Street | None | +883
Tributary C | At the confluence with Blue River | +897 | +898 | Unincorporated Areas of Johnson County.
| Approximately 325 feet upstream of West 167th Street | +897 | +902
Tributary D | At the confluence with Blue River | +898 | +900 | Unincorporated Areas of Johnson County.
| Approximately 565 feet upstream of the confluence with Blue River | +898 | +900
Tributary E | At the confluence with Blue River | +899 | +900 | Unincorporated Areas of Johnson County.
| Approximately 1,055 feet upstream of the confluence with Blue River | None | +904
Tributary F | At the confluence with Blue River | +902 | +907 | City of Overland Park.
| At U.S. Highway 69 | None | +959
Brush Creek | At State Line Road | +853 | +856 | City of Fairway, City of Mission Hills, City of Mission Woods, City of Overland Park, City of Prairie Village.
| Approximately 3,600 feet upstream of Nall Avenue | +981 | +982
Camp Branch | Approximately 420 feet upstream of Union Pacific Railroad | +894 | +895 | Unincorporated Areas of Johnson County, City of Overland Park.
| Approximately 6,230 feet upstream of West 199th Street | None | +1057
Tributary A | Approximately 1,275 feet upstream of the confluence with Camp Branch | None | +898 | Unincorporated Areas of Johnson County.
| Approximately 900 feet upstream of the confluence of Camp Branch Tributary AB | None | +1021
Tributary AA | At the confluence with Camp Branch Tributary A | None | +962 | Unincorporated Areas of Johnson County.
| Approximately 6,900 feet upstream of the confluence with Camp Branch Tributary A | None | +1038
Tributary C | At the confluence with Camp Branch | +942 | +941 | Unincorporated Areas of Johnson County.
| Approximately 490 feet upstream of the confluence with Camp Branch | +942 | +945
Tributary D | At the confluence with Camp Branch | +1006 | +999 | Unincorporated Areas of Johnson County.
| Approximately 1,750 feet upstream of the confluence with Camp Branch | None | +1008
Tributary E | At the confluence with Camp Branch | +1007 | +1000 | Unincorporated Areas of Johnson County.
| Approximately 815 feet upstream of the confluence of Camp Branch Tributary EA | None | +1017
Tributary EA | At the confluence with Camp Branch Tributary E | +1008 | +1005 | Unincorporated Areas of Johnson County.
| Approximately 380 feet upstream of the confluence with Camp Branch Tributary E | +1008 | +1007
Camp Creek | At the confluence with Cedar Creek | +789 | +798 | Unincorporated Areas of Johnson County, City of Desoto.
| Approximately 1,070 feet upstream of the confluence of Camp Creek Tributary F | None | +966
Tributary A | At the confluence with Camp Creek | +836 | +837 | Unincorporated Areas of Johnson County.
| Approximately 2,220 feet upstream of Waverly Road | None | +882
Tributary B | Approximately 370 feet upstream of the confluence with Camp Creek | None | +923 | Unincorporated Areas of Johnson County.
| At the confluence with Camp Creek | +920 | +923
Tributary D | At the confluence with Camp Creek | +937 | +938 | Unincorporated Areas of Johnson County.
| Approximately 1,135 feet upstream of the confluence with Camp Creek | None | +940
Tributary E | At the confluence with Camp Creek | +939 | +942 | Unincorporated Areas of Johnson County.
| Approximately 580 feet upstream of the confluence with Camp Creek | None | +944
Captain Creek | At the County Boundary | None | +820 | Unincorporated Areas of Johnson County, City of Desoto.
| At County Line Road | None | +922
East | Approximately 30 feet upstream of Burlington Northern & Santa Fe Railway | +797 | +798 | Unincorporated Areas of Johnson County.
| Approximately 2,670 feet upstream of West 95th Street | None | +845
Tributary E | At the confluence with Captain Creek | None | +902 | Unincorporated Areas of Johnson County.
| Approximately 3,780 feet upstream of Evening Star Road | None | +922
Tributary K | At County Line Road | None | +952 | Unincorporated Areas of Johnson County.
| Approximately 1,000 feet upstream of County Line Road | None | +953
Cedar Creek | Approximately 800 feet upstream of the confluence of Cedar Creek Tributary B | +785 | +786 | Unincorporated Areas of Johnson County, City of Desoto, City of Lenexa, City of Olathe.
| At Interstate Highway 35/U.S. Highway 50 | None | +1024
Tributary B | Approximately 200 feet upstream of Cedar Creek Road | +785 | +786 | City of Desoto.
| Approximately 210 feet upstream of Cedar Creek Road | +785 | +786
Tributary C | At the confluence with Cedar Creek | +785 | +787 | City of Desoto.
| Approximately 260 feet upstream of Cedar Creek Road | None | +794
Tributary D | Approximately 2,235 feet upstream of the confluence with Cedar Creek | None | +789 | City of Desoto.
| At the confluence with Cedar Creek | +785 | +789
Tributary E | Approximately 350 feet upstream of Cedar Creek Road | None | +798 | City of Desoto.
| At the confluence with Cedar Creek | +791 | +798
Tributary G | At the confluence with Cedar Creek | +797 | +805 | Unincorporated Areas of Johnson County, City of Lenexa, City of Olathe.
| Approximately 440 feet upstream of the confluence of Cedar Creek Tributary GA | None | +847
Tributary H | At the confluence with Cedar Creek | +808 | +810 | City of Olathe.
| Just upstream of South Bluestem Parkway | None | +921
Tributary HA | Approximately 80 feet upstream of the confluence with Cedar Creek Tributary H | +884 | +883 | Unincorporated Areas of Johnson County, City of Olathe.
| Just upstream of State Highway 10 | None | +942
Tributary HB | At the confluence with Cedar Creek Tributary H | None | +889 | City of Olathe.
| Approximately 1,650 feet upstream of the confluence with Cedar Creek Tributary H | None | +920
Tributary L | At the confluence with Cedar Creek | +868 | +872 | Unincorporated Areas of Johnson County, City of Olathe.
| Just downstream of West 151st Street | None | +1016
Tributary N | At the confluence with Cedar Creek | +941 | +943 | City of Olathe.
| At South Ward Cliff Drive | None | +953
Tributary O | At the confluence with Cedar Creek | +942 | +943 | City of Olathe.
| At Old U.S. Highway 56 | None | +1021
Tributary P | At the confluence with Cedar Creek | None | +974 | City of Olathe.
| Approximately 1,070 feet upstream of Burlington Northern & Santa Fe Railway | None | +1007
Tributary Q | At the confluence with Cedar Creek | None | +979 | Unincorporated Areas of Johnson County, City of Olathe.
| Approximately 270 feet upstream of the confluence of Cedar Creek Tributary QC | None | +1061
Tributary QA | At the confluence with Cedar Creek Tributary Q | None | +1008 | Unincorporated Areas of Johnson County, City of Olathe.
| Just downstream of Burlington Northern & Santa Fe Railway | None | +1037
Tributary S | At the confluence with Cedar Creek | None | +1003 | Unincorporated Areas of Johnson County.
| At West 167th Street | None | +1018
Tributary T | At the confluence with Cedar Creek | None | +1008 | Unincorporated Areas of Johnson County, City of Olathe.
| Approximately 450 feet upstream of Clare Road | None | +1031
Clear Creek | At the confluence with Mill Creek | +783 | +784 | City of Lenexa, City of Shawnee.
| Approximately 2,040 feet upstream of Clare Road | None | +948
Tributary F | At the confluence with Clear Creek | None | +830 | City of Shawnee.
| Just downstream of West 71st Street | None | +901
Tributary G | At the confluence with Clear Creek | None | +909 | City of Shawnee, City of Lenexa.
| Approximately 410 feet upstream of Mize Boulevard. | None | +919
Coffee Creek | At the confluence with Blue River | +909 | +913 | Unincorporated Areas of Johnson County, City of Olathe, City of Overland Park.
| Approximately 3,800 feet upstream of South Mur-Len Road | None | +1049
Tributary A | At the confluence with Coffee Creek | +917 | +923 | Unincorporated Areas of Johnson County.
| Approximately 1,250 feet upstream of the confluence with Coffee Creek. | None | +930
Tributary B | At the confluence with Coffee Creek | +925 | +926 | Unincorporated Areas of Johnson County.
| Approximately 430 feet upstream of the confluence with Coffee Creek | None | +929
Tributary C | At the confluence with Coffee Creek | +942 | +943 | City of Overland Park.
| Approximately 3,220 feet upstream of the confluence with Coffee Creek | None | +968
Tributary D | At the confluence with Coffee Creek | +956 | +959 | Unincorporated Areas of Johnson County.
| Approximately 900 feet upstream of the confluence with Coffee Creek | None | +960
Tributary E | At the confluence with Coffee Creek | None | +966 | City of Overland Park.
| Approximately 370 feet upstream of Quivira Road | None | +975
Tributary F | At the confluence with Coffee Creek | None | +970 | City of Overland Park.
| Approximately 1,340 feet upstream of the confluence with Coffee Creek | None | +979
Tributary H | At the confluence with Coffee Creek | None | +982 | City of Overland Park.
| Approximately 2,940 feet upstream of the confluence with Coffee Creek | None | +997
Tributary I | At the confluence with Coffee Creek | None | +988 | Unincorporated Areas of Johnson County.
| Approximately 2,330 feet upstream of the confluence with Coffee Creek Tributary IA | None | +1019
Tributary IA | At the confluence with Coffee Creek Tributary I | None | +1008 | Unincorporated Areas of Johnson County.
| Approximately 1,600 feet upstream of the confluence with Coffee Creek Tributary I | None | +1025
Tributary J | At the confluence with Coffee Creek | None | +991 | Unincorporated Areas of Johnson County.
| Approximately 2,150 feet upstream of the confluence with Coffee Creek | None | +1001
Tributary K | At the confluence with Coffee Creek | None | +1004 | Unincorporated Areas of Johnson County.
| Approximately 910 feet upstream of Lackman Road | None | +1013
Tributary L | At the confluence with Coffee Creek | None | +1049 | City of Olathe.
| Approximately 1,775 feet upstream of the confluence with Coffee Creek | None | +1059
Tributary P | At the confluence with Coffee Creek | None | +1048 | City of Olathe.
| Approximately 2,630 feet upstream of the confluence with Coffee Creek | None | +1058
Coon Creek | At the confluence with Mill Creek | +827 | +836 | City of Lenexa.
| Approximately 9,800 feet upstream of the confluence of Coon Creek Tributary B | None | +948
Tributary B | At the confluence with Coon Creek | None | +861 | City of Lenexa.
| Approximately 1,900 feet upstream of Monticello Road | None | +927
Dykes Branch | At State Line Road | +860 | +874 | City of Prairie Village, City of Leawood.
| At West 83rd Street | None | +928
Tributary B | At the confluence with Dykes Branch | +878 | +881 | City of Leawood.
| Approximately 1,320 feet upstream of West 85th Terrace | None | +899
Hayes Creek | At the confluence with Mill Creek | +768 | +769 | City of Shawnee.
| Approximately 3,670 feet upstream of Holliday Drive | None | +791
Indian Creek | Approximately 600 feet downstream of State Line Road Northbound | +830 | +829 | City of Leawood, City of Olathe, City of Overland Park.
| At West 159th Street | None | +1062
Bypass No. 1 | At the convergence with Indian Creek | +918 | +920 | City of Overland Park.
| At the divergence from Indian Creek | +921 | +923
Tributary No. 1 | Approximately 180 feet downstream of West 103rd Street | +859 | +858 | City of Overland Park.
| At Roe Avenue | None | +897
Tributary No. 2 | At the confluence with Indian Creek | +864 | +865 | City of Overland Park.
| Approximately 1,100 feet upstream of Metcalf Avenue/U.S. Highway 169 | None | +923
Tributary No. 3 | Approximately 450 feet upstream of the confluence with Indian Creek | +870 | +869 | City of Overland Park.
| Approximately 920 feet upstream of West 93rd Street | None | +934
Tributary No. 4 | Approximately 50 feet upstream of the confluence with Indian Creek | +874 | +875 | City of Overland Park.
| At Antioch Road | None | +923
Tributary No. 5 | At the confluence with Indian Creek | +887 | +889 | City of Overland Park.
| Approximately 205 feet upstream of Knox Drive (North) | None | +951
Tributary No. 5 Bypass A | At the convergence with Indian Creek Tributary No. 5 | +904 | +901 | City of Overland Park.
| Approximately 110 feet downstream of the divergence from Indian Creek Tributary No. 5 | +914 | +915
Tributary No. 5 Bypass B | At the convergence with Indian Creek Tributary No. 5 | +930 | +929 | City of Overland Park.
| At the divergence from Indian Creek Tributary No. 5 | +937 | +936
Tributary No. 5 Bypass C | At the convergence with Indian Creek Tributary No. 5 | +938 | +936 | City of Overland Park.
| At the divergence from Indian Creek Tributary No. 5 | None | +950
Tributary No. 6 | At the confluence with Indian Creek | +997 | +1000 | City of Olathe.
| Just downstream of West 143rd Street | +1013 | +1014
James Branch | Just upstream of the confluence with Indian Creek | +833 | +832 | City of Leawood.
| Approximately 660 feet upstream of Ensley Lane | +889 | +891
Kill Creek | Approximately 820 feet upstream of West 83rd Street | +791 | +792 | City of Gardner, City of Desoto, Unincorporated Areas of Johnson County.
| Approximately 5,750 feet upstream of West 167th Street | None | +1036
Tributary C | At the confluence with Kill Creek | None | +798 | City of Desoto.
| Just upstream of Lexington Avenue | None | +814
Tributary CA | At the confluence with Kill Creek Tributary C | None | +814 | City of Desoto, Unincorporated Areas of Johnson County.
| At Lexington Avenue | None | +847
Tributary F | At the confluence with Kill Creek | None | +813 | Unincorporated Areas of Johnson County.
| Approximately 7,480 feet upstream of the confluence with Kill Creek | None | +872
Tributary G | At the confluence with Kill Creek | None | +820 | Unincorporated Areas of Johnson County.
| Approximately 3,380 feet upstream of String Town Road | None | +862
Tributary H | At the confluence with Kill Creek | None | +832 | Unincorporated Areas of Johnson County.
| Just downstream of Homestead Lane | None | +889
Tributary I | At the confluence with Kill Creek | None | +869 | Unincorporated Areas of Johnson County.
| Approximately 1,865 feet upstream of the confluence of Kill Creek Tributary IA | None | +924
Tributary J | At the confluence with Kill Creek | None | +879 | Unincorporated Areas of Johnson County.
| At Walnut View Drive | None | +885
Tributary K | At the confluence with Kill Creek | None | +883 | City of Gardner, Unincorporated Areas of Johnson County.
| Approximately 240 feet upstream of the confluence of Kill Creek Tributary KC | None | +1003
Tributary KA | At the confluence with Kill Creek Tributary K | None | +937 | City of Gardner.
| Approximately 1,320 feet upstream of the confluence with Kill Creek Tributary K | None | +948
Tributary KC | At the confluence with Kill Creek Tributary K | None | +1002 | City of Gardner, Unincorporated Areas of Johnson County.
| Approximately 2,200 feet upstream of West 167th Street | None | +1010
Tributary L | At the confluence with Kill Creek | None | +887 | Unincorporated Areas of Johnson County.
| Approximately 1,030 feet upstream of the confluence with Kill Creek | None | +892
Tributary M | At the confluence with Kill Creek | None | +905 | Unincorporated Areas of Johnson County.
| Approximately 6,210 feet upstream of the confluence with Kill Creek | None | +950
Tributary N | At the confluence with Kill Creek | None | +919 | Unincorporated Areas of Johnson County.
| Approximately 3,080 feet upstream of Gardner Road | None | +1003
Tributary O | At the confluence with Kill Creek | None | +945 | Unincorporated Areas of Johnson County.
| Just downstream of West 151st Street | None | +947
Tributary P | At the confluence with Kill Creek | None | +996 | Unincorporated Areas of Johnson County.
| At West 159th Street | None | +1009
West Tributary C | Approximately 930 feet upstream of the confluence with Kill Creek West Tributary B | +796 | +803 | Unincorporated Areas of Johnson County.
| Approximately 1,120 feet upstream of Edgerton Road | None | +837
Lake Quivira | Approximately 800 feet downstream of County Boundary | None | +829 | City of Lake Quivira, City of Shawnee.
| Approximately 3,000 feet upstream of Lakeshore South Street | None | +854
Tributary A | At the confluence with Lake Quivira | None | +829 | City of Lake Quivira, City of Shawnee.
| Approximately 1,930 feet upstream of Lakeshore West Street | None | +850
Tributary AA | At the confluence with Lake Quivira Tributary A | None | +829 | City of Lake Quivira.
| At Lakeshore West Street | None | +832
Little Bull Creek | At the County Boundary | None | +939 | Unincorporated Areas of Johnson County.
| Approximately 700 feet upstream of West 199th Street | None | +1010
Tributary A | At the confluence with Little Bull Creek | None | +953 | Unincorporated Areas of Johnson County.
| Approximately 5,105 feet upstream of Cedar Niles Road | None | +1004
Little Cedar Creek | At the confluence with Cedar Creek | +839 | +845 | Unincorporated Areas of Johnson County, City of Olathe.
| Just downstream of Old U.S. Highway 56 | None | +1023
Tributary B | At the confluence with Little Cedar Creek | +865 | +866 | Unincorporated Areas of Johnson County, City of Olathe.
| Approximately 1,430 feet upstream of West 127th Street | None | +1005
Tributary C | At the confluence with Little Cedar Creek | +879 | +881 | Unincorporated Areas of Johnson County, City of Olathe.
| Just downstream of College Boulevard | None | +980
Tributary CA | At the confluence with Little Cedar Creek Tributary C | None | +957 | City of Olathe.
| Approximately 1,650 feet upstream of the confluence with Little Cedar Creek Tributary C | None | +961
Tributary D | At the confluence with Little Cedar Creek | +904 | +909 | City of Olathe, Unincorporated Areas of Johnson County.
| Approximately 3,210 feet upstream of the confluence with Little Cedar Creek | None | +938
Tributary F | At the confluence with Little Cedar Creek | +971 | +973 | City of Olathe.
| Just downstream of West Santa Fe Street | +973 | +978
Little Mill Creek. | At the confluence with Mill Creek | +794 | +792 | City of Lenexa, City of Shawnee.
| At Brentwood Drive | +977 | +981
Tributary A | At the confluence with Little Mill Creek | +794 | +792 | City of Shawnee.
| At Midland Drive | None | +806
Tributary B | At the confluence with Little Mill Creek | +857 | +858 | City of Shawnee.
| Approximately 1,720 feet upstream of the confluence with Little Mill Creek | None | +871
Tributary C | Approximately 260 feet upstream of the confluence with Little Mill Creek | +860 | +861 | City of Shawnee.
| Approximately 460 feet upstream of the confluence with Little Mill Creek | None | +865
Tributary D | At the confluence with Little Mill Creek | +883 | +882 | City of Shawnee.
| Approximately 2,400 feet upstream of West 71st Street | None | +920
Tributary E | At the confluence with Little Mill Creek | +889 | +891 | City of Shawnee, City of Lenexa.
| Approximately 940 feet upstream of the confluence with Little Mill Creek | None | +896
Tributary F | At the confluence with Little Mill Creek | +893 | +897 | City of Shawnee, City of Lenexa.
| Approximately 880 feet upstream of the confluence of Little Mill Creek Tributary FA | None | +922
Tributary FA | At the confluence with Little Mill Creek Tributary F | None | +915 | City of Shawnee.
| Approximately 430 feet upstream of Blackfish Parkway | None | +923
Tributary H | At the confluence with Little Mill Creek | +922 | +927 | City of Lenexa.
| Approximately 1,340 feet upstream of the confluence with Little Mill Creek | +922 | +932
Tributary I | At the confluence with Little Mill Creek | +952 | +956 | City of Lenexa.
| Approximately 790 feet upstream of Greenway Lane | None | +961
Martin Creek | At the confluence with Big Bull Creek | None | +951 | City of Edgerton, Unincorporated Areas of Johnson County.
| Approximately 4,900 feet upstream of Old State Highway 56 | None | +1022
Tributary C | At the confluence with Martin Creek | +960 | +963 | City of Edgerton, Unincorporated Areas of Johnson County.
| Approximately 6,550 feet upstream of Burlington Northern & Santa Fe Railway | None | +1013
Tributary CA | At the confluence with Martin Creek Tributary C | +969 | +973 | City of Edgerton.
| Approximately 2,670 feet upstream of First Street | None | +1008
Tributary D | At the confluence with Martin Creek | +967 | +972 | Unincorporated Areas of Johnson County.
| Approximately 335 feet upstream of West 183rd Street | None | +1022
Tributary E | At the confluence with Martin Creek | +982 | +984 | Unincorporated Areas of Johnson County.
| Approximately 13,450 feet upstream of 191st Street | None | +1037
Tributary F | At the confluence with Martin Creek | None | +1001 | Unincorporated Areas of Johnson County.
| Approximately 5,500 feet upstream of the confluence with Martin Creek | None | +1027
Massey Creek | At State Line Road | None | +968 | Unincorporated Areas of Johnson County.
| Approximately 415 feet upstream of Mission Road | None | +1003
Tributary A | At the confluence with Massey Creek | None | +983 | Unincorporated Areas of Johnson County.
| Approximately 4,850 feet upstream of the confluence of Massey Creek Tributary AB | None | +1034
Tributary AA | At the confluence with Massey Creek Tributary A | None | +985 | Unincorporated Areas of Johnson County.
| Approximately 4,070 feet upstream of West 207th Street | None | +1028
Tributary AB | At the confluence with Massey Creek Tributary A | None | +1004 | Unincorporated Areas of Johnson County.
| Approximately 4,525 feet upstream of the confluence with Massey Creek Tributary A | None | +1027
Mill Creek | Just upstream of Wilder Road | +768 | +769 | City of Shawnee, City of Lenexa, City of Olathe, Unincorporated Areas of Johnson County.
| Approximately 2,000 feet upstream of East Cedar Street | +1017 | +1016
Tributary A | At the confluence with Mill Creek | +775 | +773 | City of Shawnee.
| Just downstream of Woodland Drive | +775 | +773
Tributary B | At the confluence with Mill Creek | +783 | +785 | City of Shawnee.
| Approximately 530 feet upstream of Barker Road | None | +786
Tributary D | At the confluence with Mill Creek | +800 | +798 | City of Shawnee.
| Approximately 1,050 feet upstream of Woodland Drive | None | +823
Tributary E | At the confluence with Mill Creek | +806 | +803 | City of Shawnee, City of Lenexa.
| Approximately 1,800 feet upstream of the confluence of Mill Creek Tributary EB | None | +879
Tributary EA | At the confluence with Mill Creek Tributary E | None | +874 | City of Lenexa.
| Approximately 2,400 feet upstream of the confluence with Mill Creek Tributary E | None | +876
Tributary EB | At the confluence with Mill Creek Tributary E | None | +874 | City of Lenexa, City of Shawnee.
| Just downstream of Barkley Drive | None | +888
Tributary G | At the confluence with Mill Creek | +858 | +857 | City of Lenexa.
| Approximately 1,340 feet upstream of the confluence with Mill Creek | None | +870
Tributary H | At the confluence with Mill Creek | +868 | +869 | City of Lenexa, City of Olathe, Unincorporated Areas of Johnson County.
| Just downstream of College Boulevard | None | +968
Tributary HA | At the confluence with Mill Creek Tributary H | +895 | +896 | City of Lenexa.
| Approximately 790 feet upstream of Renner Boulevard | None | +940
Tributary HB | At the confluence with Mill Creek Tributary H | None | +957 | City of Lenexa.
| Just downstream of Eicher Drive | None | +982
Tributary J | At the confluence with Mill Creek | +916 | +919 | City of Olathe.
| Approximately 1,940 feet upstream of the confluence with Mill Creek | None | +926
Tributary L | At the confluence with Mill Creek | +928 | +932 | City of Olathe.
| Just downstream of South Ridgeview Road | None | +945
Tributary M | Approximately 720 feet upstream of Burlington & Northern Santa Fe Railway | None | +950 | City of Olathe.
| At the confluence with Mill Creek | +943 | +950
Tributary N | Approximately 580 feet upstream of South Nelson Road | None | +956 | City of Olathe.
| At the confluence with Mill Creek | +950 | +956
Tributary NA | At the confluence with Mill Creek Tributary N | +950 | +956 | City of Olathe.
| Just downstream of South Nelson Road | None | +957
Tributary O | At the confluence with Mill Creek | +952 | +959 | City of Olathe.
| Just downstream of East Kansas City Road | None | +1007
Negro Creek | At the confluence with Blue River | +869 | +868 | City of Overland Park, City of Leawood.
| At U.S. Highway 69 | +986 | +989
Tributary A | At the confluence with Negro Creek | +872 | +870 | City of Leawood, City of Overland Park.
| Approximately 300 feet upstream of the confluence of Negro Creek Tributary AC | None | +926
Tributary AB | At the confluence with Negro Creek Tributary A | +917 | +921 | City of Leawood.
| Approximately 1,050 feet upstream of the confluence with Negro Creek Tributary A | None | +926
Tributary AC | At the confluence with Negro Creek Tributary A | None | +923 | City of Leawood.
| At West 143rd Street | None | +924
Tributary B | At the confluence with Negro Creek | +884 | +888 | City of Leawood.
| Approximately 740 feet upstream of the confluence with Negro Creek | None | +892
Tributary C | At the confluence with Negro Creek | +903 | +908 | City of Leawood.
| At Nall Avenue | None | +917
Tributary D | At the confluence with Negro Creek | +920 | +923 | City of Overland Park.
| At West 157th Street | None | +947
Tributary E | At the confluence with Negro Creek | +924 | +925 | City of Overland Park.
| At West 156th Street | +926 | +932
Niles Creek | At the County Boundary | None | +940 | Unincorporated Areas of Johnson County, City of Gardner.
| Approximately 100 feet upstream of U.S. Highway 56 | None | +1032
Tributary A | At the confluence with Niles Creek | None | +974 | Unincorporated Areas of Johnson County.
| Approximately 4,310 feet upstream of the confluence with Niles Creek | None | +986
Tributary C | At the confluence with Niles Creek | None | +1003 | Unincorporated Areas of Johnson County.
| Approximately 3,020 feet upstream of the confluence with Niles Creek | None | +1011
North Branch Indian Creek | Approximately 220 feet upstream of the confluence with Indian Creek | +905 | +906 | City of Lenexa, City of Overland Park.
| Approximately 2,920 feet upstream of West 103rd Street | None | +979
Tributary A | At the confluence with North Branch Indian Creek | +925 | +927 | City of Overland Park.
| Just downstream of West 103rd Street | +947 | +944
Tributary B | At the confluence with North Branch Indian Creek | +935 | +937 | City of Overland Park, City of Lenexa.
| Approximately 600 feet upstream of Hauser Street | None | +980
Pickering Creek | At the confluence with Captain Creek | None | +922 | Unincorporated Areas of Johnson County.
| Approximately 3,920 feet upstream of West 167th Street | None | +979
Tributary A | At the confluence with Pickering Creek | None | +940 | Unincorporated Areas of Johnson County.
| Approximately 3,150 feet upstream of the confluence of Pickering Creek Tributary AA | None | +959
Rock Creek | At the confluence with Brush Creek | +863 | +868 | City of Mission, City of Fairway, City of Mission Hills, City of Roeland Park.
| Approximately 400 feet upstream of the confluence with Rock Creek Tributary G | +964 | +960
Tributary A | Approximately 100 feet downstream of Shawnee Mission Parkway | None | +892 | City of Roeland Park, City of Fairway.
| Approximately 3,000 feet upstream of Shawnee Mission Parkway | None | +936
Tributary B | Approximately 300 feet downstream of Shawnee Mission Parkway | None | +898 | City of Roeland Park, City of Fairway.
| Approximately 1,100 feet upstream of West 53rd Street | None | +943
Tributary D | Approximately 450 feet downstream of West 54th Terrace | None | +931 | City of Roeland Park.
| Approximately 560 feet upstream of Sherwood Drive | None | +963
Tributary E | At Johnson Drive | None | +935 | City of Roeland Park, City of Mission.
| At West 57th Street | None | +940
Spoon Creek | At the confluence with Kill Creek | None | +821 | Unincorporated Areas of Johnson County.
| Approximately 1,280 feet upstream of West 167th Street | None | +988
Tributary B | At the confluence with Spoon Creek | None | +919 | Unincorporated Areas of Johnson County.
| Approximately 4,380 feet upstream of Sunflower Road | None | +937
Tributary C | At the confluence with Spoon Creek | None | +927 | Unincorporated Areas of Johnson County.
| Approximately 450 feet upstream of the confluence with Spoon Creek | None | +928
Tributary E | At the confluence with Spoon Creek | None | +958 | Unincorporated Areas of Johnson County.
| Approximately 3,120 feet upstream of Sunflower Road | None | +975
Spring Creek | At West 215th Street | None | +940 | Unincorporated Areas of Johnson County, City of Spring Hill.
| Approximately 3,000 feet upstream of West 199th Street | None | +1029
Sweetwater Creek | Approximately 11,000 feet downstream of West 215th Street | None | +960 | Unincorporated Areas of Johnson County, City of Spring Hill.
| Approximately 500 feet upstream of West 207th Street | None | +1031
Tributary A | At the confluence with Sweetwater Creek | None | +997 | Unincorporated Areas of Johnson County, City of Spring Hill.
| Approximately 5,180 feet upstream of the confluence with Sweetwater Creek | None | +1029
Tributary B | At the confluence with Sweetwater Creek | None | +997 | Unincorporated Areas of Johnson County, City of Spring Hill.
| Approximately 2,775 feet upstream of the confluence with Sweetwater Creek | None | +1012
Ten Mile Creek | At West 215th Street | None | +1013 | Unincorporated Areas of Johnson County.
| Approximately 405 feet upstream of Lackman Road | None | +1024
Tomahawk Creek | At the confluence with Indian Creek | +845 | +843 | City of Leawood.
| At College Boulevard | +845 | +844
Tributary No. 12B1 | Approximately 70 feet upstream of the confluence with Tomahawk Creek Tributary No. 12 | +923 | +924 | City of Overland Park.
| Just upstream of West 133rd Street | +924 | +925
Tributary No. 13 | At the confluence with Tomahawk Creek | +929 | +930 | City of Overland Park.
| Approximately 1,050 feet upstream of the confluence with Tomahawk Creek | +931 | +932
Tributary No. 13B1 | At the confluence with Tomahawk Creek | +935 | +934 | City of Overland Park.
| Approximately 50 feet upstream of the confluence with Tomahawk Creek | +935 | +934
Tributary No. 4 | Approximately 100 feet upstream of the confluence with Tomahawk Creek | +864 | +865 | City of Leawood.
| Approximately 400 feet upstream of the confluence with Tomahawk Creek | +864 | +865
Tributary No. 9 | Approximately 220 feet upstream of the confluence with Tomahawk Creek | +890 | +891 | City of Overland Park.
| Approximately 820 feet upstream of the confluence with Tomahawk Creek | +892 | +893
Tucker Branch | At West 215th Street | None | +1000 | Unincorporated Areas of Johnson County.
| Approximately 5,025 feet upstream of Renner Road | None | +1022
Turkey Creek | Approximately 125 feet downstream of Lamar Avenue | +843 | +844 | City of Overland Park, City of Lenexa, City of Merriam, City of Mission, City of Shawnee.
| Approximately 1,525 feet upstream of Nieman Road | None | +1007
Tributary C | At the confluence with Turkey Creek | +894 | +895 | City of Merriam.
| Approximately 1,225 feet upstream of Merriam Drive | None | +897
Tributary F | At the confluence with Turkey Creek | +931 | +934 | City of Merriam, City of Shawnee.
| Approximately 200 feet upstream of Flint Street | None | +974
Tributary J | At East Frontage Road | +971 | +977 | City of Overland Park.
| Approximately 1,880 feet upstream of Mastin Street | None | +992
Wolf Creek | At the confluence with Blue River | +909 | +913 | City of Overland Park, Unincorporated Areas of Johnson County.
| At West 183rd Street | None | +1041
Tributary B | At the confluence with Wolf Creek | +914 | +918 | City of Overland Park, Unincorporated Areas of Johnson County.
| At U.S. Highway 69 | None | +953
Tributary C | At the confluence with Wolf Creek | +931 | +934 | Unincorporated Areas of Johnson County.
| At West 207th Street | None | +1045
Tributary CC | At the confluence with Wolf Creek Tributary C | None | +1018 | Unincorporated Areas of Johnson County.
| At Antioch Road | None | +1019
Tributary CD | At the confluence with Wolf Creek Tributary C | None | +1034 | Unincorporated Areas of Johnson County.
| At Antioch Road | None | +1042
Tributary D | At the confluence with Wolf Creek | +935 | +939 | Unincorporated Areas of Johnson County.
| Approximately 1,140 feet upstream of the confluence with Wolf Creek | +935 | +953
Tributary E | At the confluence with Wolf Creek | +938 | +941 | Unincorporated Areas of Johnson County.
| At West 199th Street | None | +1026
Tributary EA | At the confluence with Wolf Creek Tributary E | None | +1006 | Unincorporated Areas of Johnson County.
| At Quivira Road | None | +1025
Tributary EB | At the confluence with Wolf Creek Tributary E | None | +1021 | Unincorporated Areas of Johnson County.
| At West 199th Street | None | +1028
Tributary F | At the confluence with Wolf Creek | +946 | +950 | Unincorporated Areas of Johnson County.
| Approximately 720 feet upstream of the confluence with Wolf Creek | +946 | +953
Tributary G | At the confluence with Wolf Creek | None | +966 | Unincorporated Areas of Johnson County.
| At West 191st Street | None | +1024
Tributary GA | At the confluence with Wolf Creek Tributary G | None | +993 | Unincorporated Areas of Johnson County.
| At West 191st Street | None | +1008
Tributary H | At the confluence with Wolf Creek | None | +990 | Unincorporated Areas of Johnson County.
| At West 183rd Street | None | +997
Tributary I | At the confluence with Wolf Creek | None | +997 | Unincorporated Areas of Johnson County.
| At West 183rd Street | None | +999
Tributary J | At the confluence with Wolf Creek | None | +1003 | Unincorporated Areas of Johnson County.
| Approximately 2,550 feet upstream of West 183rd Street | None | +1021
Tributary K | At the confluence with Wolf Creek | None | +1012 | Unincorporated Areas of Johnson County.
| Approximately 1,100 feet upstream of the confluence with Wolf Creek | None | +1015
Tributary L | At the confluence with Wolf Creek | None | +1016 | Unincorporated Areas of Johnson County.
| Approximately 1,220 feet upstream of the confluence with Wolf Creek | None | +1034
Tributary M | At the confluence with Wolf Creek | None | +1018 | Unincorporated Areas of Johnson County.
| Approximately 925 feet upstream of the confluence with Wolf Creek | None | +1019
Tributary N | At the confluence with Wolf Creek | None | +1020 | Unincorporated Areas of Johnson County.
| Approximately 4,970 feet upstream of the confluence with Wolf Creek | None | +1041
Tributary NA | At the confluence with Wolf Creek Tributary N | None | +1025 | Unincorporated Areas of Johnson County.
| Approximately 1,000 feet upstream of the confluence with Wolf Creek Tributary N | None | +1040
* National Geodetic Vertical Datum.
# Depth in feet above ground.
+ North American Vertical Datum.
ADDRESSES
City of Desoto
Maps are available for inspection at 33150 W. 83rd Street, De Soto, KS 66018.
Send comments to William R. Blanton, Jr., Chief, Engineering Management Section, Mitigation Directorate, Federal Emergency Management Agency, 500 C Street, SW., Washington, DC 20472.
City of Edgerton
Maps are available for inspection at 404 E. Nelson, Edgerton, KS 66021.
Send comments to William R. Blanton, Jr., Chief, Engineering Management Section, Mitigation Directorate, Federal Emergency Management Agency, 500 C Street, SW., Washington, DC 20472.
City of Fairway
Maps are available for inspection at 5252 Belinder Road, Fairway, KS 66205.
Send comments to William R. Blanton, Jr., Chief, Engineering Management Section, Mitigation Directorate, Federal Emergency Management Agency, 500 C Street, SW., Washington, DC 20472.
City of Gardner
Maps are available for inspection at 120 E. Main Street, Gardner, KS 66030.
Send comments to William R. Blanton, Jr., Chief, Engineering Management Section, Mitigation Directorate, Federal Emergency Management Agency, 500 C Street, SW., Washington, DC 20472.
City of Lake Quivira
Maps are available for inspection at 10 Crescent Boulevard, Lake Quivira, KS 66217.
Send comments to William R. Blanton, Jr., Chief, Engineering Management Section, Mitigation Directorate, Federal Emergency Management Agency, 500 C Street, SW., Washington, DC 20472.
City of Leawood
Maps are available for inspection at 4820 Town Center Drive, Leawood, KS 66211.
Send comments to William R. Blanton, Jr., Chief, Engineering Management Section, Mitigation Directorate, Federal Emergency Management Agency, 500 C Street, SW., Washington, DC 20472.
City of Lenexa
Maps are available for inspection at 12350 W. 87th Street Parkway, Lenexa, KS 66215.
Send comments to William R. Blanton, Jr., Chief, Engineering Management Section, Mitigation Directorate, Federal Emergency Management Agency, 500 C Street, SW., Washington, DC 20472.
City of Merriam
Maps are available for inspection at 9000 W. 62nd Terrace, Merriam, KS 66202.
Send comments to William R. Blanton, Jr., Chief, Engineering Management Section, Mitigation Directorate, Federal Emergency Management Agency, 500 C Street, SW., Washington, DC 20472.
City of Mission
Maps are available for inspection at 6090 Woodson, Mission, KS 66202
Send comments to William R. Blanton, Jr., Chief, Engineering Management Section, Mitigation Directorate, Federal Emergency Management Agency, 500 C Street, SW., Washington, DC 20472.
City of Mission Hills
Maps are available for inspection at 6300 State Line Road, Mission Hills, KS 66208.
Send comments to William R. Blanton, Jr., Chief, Engineering Management Section, Mitigation Directorate, Federal Emergency Management Agency, 500 C Street, SW., Washington, DC 20472.
City of Mission Woods
Maps are available for inspection at 4700 Rainbow Boulevard, Westwood, KS 66205.
Send comments to William R. Blanton, Jr., Chief, Engineering Management Section, Mitigation Directorate, Federal Emergency Management Agency, 500 C Street, SW., Washington, DC 20472.
City of Olathe
Maps are available for inspection at 100 W. Santa Fe Drive, Olathe, KS 66061.
Send comments to William R. Blanton, Jr., Chief, Engineering Management Section, Mitigation Directorate, Federal Emergency Management Agency, 500 C Street, SW., Washington, DC 20472.
City of Overland Park
Maps are available for inspection at 8500 Santa Fe Drive, Overland Park, KS 66212.
Send comments to William R. Blanton, Jr., Chief, Engineering Management Section, Mitigation Directorate, Federal Emergency Management Agency, 500 C Street, SW., Washington, DC 20472.
City of Prairie Village
Maps are available for inspection at 7700 Mission Road, Prairie Village, KS 66208.
Send comments to William R. Blanton, Jr., Chief, Engineering Management Section, Mitigation Directorate, Federal Emergency Management Agency, 500 C Street, SW., Washington, DC 20472.
City of Roeland Park
Maps are available for inspection at 4600 W. 51st Street, Roeland Park, KS 66205.
Send comments to William R. Blanton, Jr., Chief, Engineering Management Section, Mitigation Directorate, Federal Emergency Management Agency, 500 C Street, SW., Washington, DC 20472.
City of Shawnee
Maps are available for inspection at 11110 Johnson Drive, Shawnee, KS 66203.
Send comments to William R. Blanton, Jr., Chief, Engineering Management Section, Mitigation Directorate, Federal Emergency Management Agency, 500 C Street, SW., Washington, DC 20472.
City of Spring Hill
Maps are available for inspection at 401 N. Madison Street, Spring Hill, KS 66083.
Send comments to William R. Blanton, Jr., Chief, Engineering Management Section, Mitigation Directorate, Federal Emergency Management Agency, 500 C Street, SW., Washington, DC 20472.
Unincorporated Areas of Johnson County
Maps are available for inspection at 111 S. Cherry Street, Suite 3500, Olathe, KS 66061.
Send comments to William R. Blanton, Jr., Chief, Engineering Management Section, Mitigation Directorate, Federal Emergency Management Agency, 500 C Street, SW., Washington, DC 20472.
Cherokee County, North Carolina and Incorporated Areas
Bates Creek | At the confluence with Hanging Dog Creek | None | +1,529 | Unincorporated Areas of Cherokee County, Eastern Band of Cherokee Indians.
| Approximately 0.8 mile upstream of the confluence with Hanging Dog Creek | None | +1,633
Bearpaw Creek | At the confluence with Hiwassee River | None | +1,529 | Unincorporated Areas of Cherokee County.
| Approximately 80 feet downstream of Lower Bear Paw Road (State Road 1312) | None | +1,534
Beaverdam Creek | At the confluence with Hiwassee River | None | +1,529 | Unincorporated Areas of Cherokee County.
| Approximately 70 feet downstream of the confluence of Cook Creek | None | +1,734
Beech Creek | At the confluence with Hiwassee River | None | +1,529 | Unincorporated Areas of Cherokee County.
| Approximately 2.4 miles upstream of the confluence with Hiwassee River | None | +1,548
Brasstown Creek | At the confluence with Hiwassee River | None | +1,587 | Unincorporated Areas of Cherokee County.
| Approximately 0.4 mile upstream of Brasstown Road | None | +1,605
Brown Creek | At the confluence with Valley River | None | +1,692 | Unincorporated Areas of Cherokee County.
| Approximately 0.6 mile upstream of the confluence with Valley River | None | +1,709
Cane Creek | At the confluence with Nottely River | None | +1,529 | Unincorporated Areas of Cherokee County.
| Approximately 0.9 mile upstream of U.S. Highway 64 | None | +1,536
Chambers Creek | At the confluence with Hiwassee River | None | +1,529 | Unincorporated Areas of Cherokee County.
| Approximately 1.7 miles upstream of the confluence with Hiwassee River | None | +1,534
Davis Creek | At the confluence with Hanging Dog Creek | None | +1,767 | Unincorporated Areas of Cherokee County
| Approximately 20 feet downstream of the confluence with Dockey Creek and Bald Creek | None | +2,054
Grape Creek | At the confluence with Hiwassee River | None | +1,529 | Unincorporated Areas of Cherokee County.
| Approximately 0.9 mile upstream of Joe Brown Highway (State Road 1326) | None | +1,530
Hanging Dog Creek | At the confluence with Hiwassee River | None | +1,529 | Unincorporated Areas of Cherokee County, Eastern Band of Cherokee Indians.
| Approximately 1,300 feet upstream of Running Deer Lane | None | +1,914
Hiwassee River | Approximately 1.5 miles downstream of Apalachia Lake Dam | None | +1,162 | Unincorporated Areas of Cherokee County, Town of Murphy.
| Approximately 875 feet downstream of Mission Dam | None | +1,620
Junaluska Creek | At the confluence with Valley River | None | +1,783 | Unincorporated Areas of Cherokee County, Town of Andrews.
| At the confluence of Bear Branch | None | +2,169
Little Brasstown Creek | At the confluence with Brasstown Creek | None | +1,605 | Unincorporated Areas of Cherokee County.
| Approximately 1.8 miles upstream of Folk School Road (State Road 1565) | None | +1,627
Martin Creek | At the confluence with Hiwassee River | None | +1,534 | Unincorporated Areas of Cherokee County.
| Approximately 1,740 feet upstream of Brasstown Road (State Road 1564) | None | +1,655
McClellan Creek | At the confluence with Tatham Creek | None | +1,852 | Unincorporated Areas of Cherokee County.
| Approximately 1,200 feet upstream of Pisgah Road (State Road 1507) | None | +1,903
Morgan Creek | At the confluence with Valley River | None | +1,594 | Unincorporated Areas of Cherokee County.
| Approximately 0.5 mile upstream of the confluence with Valley River | None | +1,601
Nottely River | At the confluence with Hiwassee River | None | +1,529 | Unincorporated Areas of Cherokee County.
| Approximately 2.2 miles downstream of U.S. Highway 64 | None | +1,534
Owl Creek | At the confluence with Hanging Dog Creek | None | +1,677 | Unincorporated Areas of Cherokee County.
| Approximately 0.5 mile upstream of Owl Creek Road (State Road 1340) | None | +1,904
Peachtree Creek | At the confluence with Hiwassee River | None | +1,564 | Unincorporated Areas of Cherokee County.
| Approximately 0.5 mile upstream of Upper Peachtree Road (State Road 1535) | None | +1,798
Persimmon Creek | At the confluence with Hiwassee River | None | +1,529 | Unincorporated Areas of Cherokee County.
| Approximately 440 feet upstream of U.S. Highway 64 | None | +1,821
Phillips Creek | At the confluence with Tatham Creek | None | +1,852 | Unincorporated Areas of Cherokee County.
| Approximately 1,610 feet upstream of Sunflower Lane | None | +2,360
Rapier Mill Creek | Approximately 0.6 mile upstream of the confluence with Nottely River | +1570 | +1,571 | Unincorporated Areas of Cherokee County.
| At the confluence of South Fork Rapier Mill Creek | None | +1,596
Ricket Branch | At the confluence with Valley River | None | +1,679 | Unincorporated Areas of Cherokee County.
| Approximately 200 feet downstream of Airport Road (State Road 1428) | None | +1,706
Rogers Creek | At the confluence with Valley River | None | +1,572 | Unincorporated Areas of Cherokee County.
| Approximately 0.7 mile upstream of the confluence with Valley River | None | +1,594
Slow Creek | Approximately 75 feet downstream of the downstream most crossing of Canyon Road (State Road 1527) | None | +1,678 | Unincorporated Areas of Cherokee County.
| Approximately 660 feet upstream of the upstream most crossing of Canyon Road (State Road 1527) | None | +1,727
South Fork Rapier Mill Creek | At the confluence with Rapier Mill Creek | None | +1,596 | Unincorporated Areas of Cherokee County.
| Approximately 1.9 miles upstream of State Route 60 | None | +1,674
South Shoal Creek | At the confluence with Hiwassee River | None | +1,282 | Unincorporated Areas of Cherokee County.
| Approximately 2.7 miles upstream of Shoal Creek Road (State Road 1145) | None | +1,972
Tatham Creek | At the confluence with Valley River | None | +1,772 | Unincorporated Areas of Cherokee County, Town of Andrews.
| At the confluence of McClellan Creek and Phillips Creek | None | +1,852
Valley River | At the confluence with Hiwassee River | None | +1,530 | Unincorporated Areas of Cherokee County, Town of Andrews, Town of Murphy.
| Approximately 1.0 mile upstream of Cherokee Avenue | None | +3,678
Whitiaker Branch | At the confluence with Valley River | None | +1,696 | Unincorporated Areas of Cherokee County.
| Approximately 0.8 mile upstream of the confluence with Valley River | None | +1,715
Worm Creek | At the confluence with Valley River | None | +1,825 | Unincorporated Areas of Cherokee County.
| Approximately 0.9 mile upstream of Robinson Road (State Road 1502) | None | +2,240
* National Geodetic Vertical Datum.
# Depth in feet above ground.
+ North American Vertical Datum.
ADDRESSES
Eastern Band of Cherokee Indians
Maps are available for inspection at Ginger Lynn Welch Complex, 810 Aquoni Road, Cherokee, North Carolina.
Send comments to William R. Blanton, Jr., Chief, Engineering Management Section, Mitigation Directorate, Federal Emergency Management Agency, 500 C Street, SW., Washington, DC 20472.
Town of Andrews
Maps are available for inspection at Andrews Town Hall, 1101 Main Street, Andrews, North Carolina.
Send comments to William R. Blanton, Jr., Chief, Engineering Management Section, Mitigation Directorate, Federal Emergency Management Agency, 500 C Street, SW., Washington, DC 20472.
Town of Murphy
Maps are available for inspection at Murphy Town Hall, 5 Wofford Street, Murphy, North Carolina.
Send comments to William R. Blanton, Jr., Chief, Engineering Management Section, Mitigation Directorate, Federal Emergency Management Agency, 500 C Street, SW., Washington, DC 20472.
Unincorporated Areas of Cherokee County
Maps are available for inspection at Cherokee County Mapping Department/GIS, County Courthouse, 39 Peachtree Street, Suite 104, Murphy, North Carolina.
Send comments to William R. Blanton, Jr., Chief, Engineering Management Section, Mitigation Directorate, Federal Emergency Management Agency, 500 C Street, SW., Washington, DC 20472.
Fayette County, Tennessee, and Incorporated Areas
Wolf River Unnamed Tributary 1 (Controlled by Wolf River) | Approximately 1,600 feet upstream of the confluence with Wolf River | None | +300 | City of Piperton, Unincorporated Areas of Fayette County.
| Approximately 5,170 feet upstream of the confluence with Wolf River | None | +300
Wolf River Unnamed Tributary 2 (Controlled by Wolf River) | Approximately 2,750 feet upstream of the confluence with Wolf River | None | +300 | Unincorporated Areas of Fayette County.
| Approximately 4,300 feet upstream of the confluence with Wolf River | None | +300
* National Geodetic Vertical Datum.
# Depth in feet above ground.
+ North American Vertical Datum.
ADDRESSES
City of Piperton
Maps are available for inspection at 3575 Highway 196, Piperton, TN 38017.
Send comments to William R. Blanton, Jr., Chief, Engineering Management Section, Mitigation Directorate, Federal Emergency Management Agency, 500 C Street, SW., Washington, DC 20472.
Unincorporated Areas of Fayette County
Maps are available for inspection at 16265 Highway 64, Suite 4, Somerville, TN 38068.
Send comments to William R. Blanton, Jr., Chief, Engineering Management Section, Mitigation Directorate, Federal Emergency Management Agency, 500 C Street, SW., Washington, DC 20472.

Catalog of Federal Domestic Assistance No. 97.022, “Flood Insurance.”

Dated: October 9, 2007.
David I. Maurstad,
Federal Insurance Administrator of the National Flood Insurance Program, Department of Homeland Security, Federal Emergency Management Agency.

[FR Doc. E7-20357 Filed 10-15-07; 8:45 am]

BILLING CODE 9110-12-P